DEPARTMENT OF THE INTERIOR

National Park Service

[NPS-WASO-NAGPRA-17383;PPWOCRADN0-PCU00RP14.R50000]

Notice of Inventory Completion: Idaho Transportation Department, Boise, ID, and Alfred W. Bowers Laboratory of Anthropology, University of Idaho, Moscow, ID

AGENCY: National Park Service, Interior.

ACTION: Notice.

SUMMARY: The Idaho Transportation Department has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Idaho Transportation Department. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Idaho Transportation Department at the address in this notice by March 6, 2015.

ADDRESSES: Marc Münch, State Highway Archaeologist, Idaho Transportation Department, 3311 W. State Street, P.O. Box 7129, Boise, ID 83707-1129, telephone (208) 334-8449, email marc.munch@itd.idaho.gov.

SUPPLEMENTARY INFORMATION: Notice is here given in accordance with the Native American Graves Protection and Repatriation Act (NAGPRA), 25 U.S.C. 3003, of the completion of an inventory of human remains and associated funerary objects under the control of the Idaho Transportation Department, Boise, ID, and in the physical custody of the Alfred W. Bowers Laboratory of Anthropology, Moscow, ID. The human remains and associated funerary objects were removed from 10NP102 (Arrow Beach) and 10NP105 (Lenore Village) in Nez Perce County, ID.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Idaho Transportation Department and professional staff from the Alfred W. Bowers Laboratory of Anthropology in consultation with representatives of the Nez Perce Tribe (previously listed as the Nez Perce Tribe of Idaho).

History and Description of the Remains

In 1967, human remains representing, at minimum, 1 individual and 208 associated funerary objects were removed from the Arrow Beach site (10NP102) in Nez Perce County, ID. In 1967, a human burial marked by a large pile of stones mounded on top of the body and including funerary objects was uncovered at the Arrow Beach site (10NP102). The body was in a loosely flexed position facing east. The burial was radiocarbon dated to 2930 B.P. ± 130 years. Due to the crushed state of the remains, age and sex are indeterminate.

The human remains and associated funerary objects were removed and transferred to the Idaho State University Museum. In 1976, the collection was transferred to the University of Idaho, Alfred W. Bowers Laboratory of Anthropology for study and analysis (UI accession number 76-14). No known individuals were identified.

The 208 associated funerary objects are: Debitage (n=80), stones (n=2), edge ground cobble (n=1), cobble fragment (n=1), modified flake (n=1), spall (n=1), biface (n=1), uniface (n=1), fish (n=1), bivalve (n=1), bivalve fragments (1 lot), rodent bone (n=1), medium mammal bone fragments (n=27), small mammal bone fragments (n=12), small mammal bone fragments (1 lot), unidentified mammal bone fragments (n=52), unidentified mammal bone fragments (2 lots), charcoal (n=1), charcoal (6 lots), unidentified excrement (n=4 lots/1 piece), ochre (n=1), ochre (1 lot), soil samples (n=2), soil sample (3 lots), glass fragment (n=1), modified large mammal vertebra (n=1), bone awls (n=2).

The earliest occupation of the Arrow Beach (10NP102) site dates to 3500-3000 B.P. The human burial found at 10NP102 likely belongs to this phase and has been radiocarbon dated to 2930 B.P. ± 130. The site is believed to have been temporarily abandoned after the first phase and reoccupied around 2800 B.P. with significant evidence of continuous occupation lasting until the early 1800s. The Arrow Beach (10NP102) site is located within the traditional territories of the Nez Perce Tribe and lies well within current reservation boundaries established in the Treaty of 1863.

Between 1968 and 1970, human remains representing, at minimum, three individuals were removed from the Lenore Village site (10NP105) in Nez Perce County, ID. Human remains were unearthed in the NE corner of Unit 20L4 (Feature 26). The body was in an extended position with the head oriented west and the feet oriented east. The remains are a male likely in his 30s-40s with historic-era clothing.

Human remains were unearthed in Block A-3A (Feature 12). This individual was described as having two traumatic injuries suggestive of a bullet wound in the skull. The individual is of indeterminate sex or age, due to the state of the remains.

A cranium and cranium fragment were unearthed 36 cm below the surface in Block 17L15. The individual was initially described as having a small molar which led to a faulty assumption that the individual was a child. This burial was not assigned a feature or burial number.

The human remains and associated funerary objects were removed and transferred to the Idaho State University Museum. In 1976, the collection was transferred to the University of Idaho, Alfred W. Bowers Laboratory of Anthropology, for study and analysis (UI accession number 76-14). No known individuals were identified.

The 2038 unassociated funerary objects are: Debitage (n=1680), debitage (n=4 lots), rocks (n=48), flaked cobbles (n=8), cores (n=5), net sinker blank (n=1), modified flakes (n=44), bifaces (n=7), uniface (n=1), cobble flakes (n=6), cobbles (n=3), projectile points (n=2), spall (n=1), edge battered cobbles (n=9), end battered cobbles (n=7), ground stones (n=5), fire cracked rock (n=14), tested cobbles (n=5), pestles (n=2), fragments of elk bone (n=2), unidentified bone fragments (possibly human) (n=8 lots), unidentified mammal bone fragments (n=89), unidentified mammal bone fragments (n=6 lots), teeth (n=2), ochre (n=13), charcoal (n=17), charcoal (n=22 lots), soil (1 lot), clothing and buttons (n=3 lots), left boot heel (n=1 lot), right boot heel (1 lot), glass fragments (n=4), historic nails and glass (n=12 fragments), historic battery (n=1), seeds (n=2), beetle (n=1), beetle remains (n=1 lot).

The Lenore Village site dates to at least 8,000 B.P. with occasional occupation of the site in the post-contact period. The Lenore Village (10NP105) site is located within the traditional territories of the Nez Perce Tribe and lies well within current reservation boundaries established in the Treaty of 1863.

Determinations Made by the Idaho Transportation Department

Officials of the Idaho Transportation Department have determined that:

• Pursuant to 25 U.S.C. 3001(9), the human remains described in this notice represent the physical remains of 4 individuals of Native American ancestry.

• Pursuant to 25 U.S.C. 3001(3)(A), the 2246 objects described in this notice are reasonably believed to have been placed with or near individual human remains at the time of death or later as part of the death rite or ceremony.

• Pursuant to 25 U.S.C. 3001(2), there is a relationship of shared group identity that can be reasonably traced between the Native American human remains and associated funerary objects and the Nez Perce Tribe (previously listed as the Nez Perce Tribe of Idaho).

Additional Requestors and Disposition

Lineal descendants or representatives of any Indian tribe or Native Hawaiian organization not identified in this notice that wish to request transfer of control of these human remains and associated funerary objects should submit a written request with information in support of the request to Marc Münch, State Highway Archaeologist, Idaho Transportation Department, 3311 W. State Street, P.O. Box 7129, Boise, ID 83707-1129, telephone (208) 334-8449, email marc.munch@itd.idaho.gov, by March 6, 2015. After that date, if no additional requestors have come forward, transfer of control of the human remains and associated funerary objects to the Nez Perce Tribe (previously listed as the Nez Perce Tribe of Idaho) may proceed.

The Idaho Transportation Department is responsible for notifying the Nez Perce Tribe (previously listed as the Nez Perce Tribe of Idaho) that this notice has been published.

Dated: December 22, 2014.
Melanie O'Brien,
Acting Manager, National NAGPRA Program.

[FR Doc. 2015-02224 Filed 2-3-15; 8:45 am]

BILLING CODE 4310-70-P